FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011637-006.

Title: AMPAC Cooperative Working Agreement.

Parties: TMM Lines Limited, LLC, Hamburg-Süd, Maruba S.C.A.

Synopsis: The proposed amendment revises the number of vessels to be provided by each party and extends the minimum duration of the agreement.

Agreement No.: 011733-003.

Title: Common Ocean Carrier Platform Agreement.

Parties: A.P. Moller-Maersk Sealand, Alianca Navegacao e Logistica Ltda., CMA CGM, S.A., Hapag-Lloyd Container Linie, GmbH, Hamburg-Süd, Mediterranean Shipping Company, S.A., P&O Nedlloyd Limited, Safmarine Container Lines N.V., United Arab Shipping Company (S.A.G.).

Synopsis: The proposed amendment adds United Arab Shipping Company as a shareholding member of the agreement.

Agreement No.: 011746-002.

Title: COSCO/KL/YMUK Asia/U.S. Pacific Coast Slot, Allocation Agreement.

Parties: COSCO Container Lines Company, Limited, Kawasaki Kisen Kaisha, Ltd., Yangming(UK) Ltd.

Synopsis: The proposed amendment expands the geographic scope of the agreement to include ports in Malaysia, revises the vessel strings the parties are deploying under the agreement, and makes adjustments to the parties' space allocations. The parties request expedited review.

Agreement No.: 011790.

Title: Dole Ocean Cargo Express/King Ocean Services Limited, Slot Allocation Agreement.

Parties: Dole Ocean Cargo Express, Inc., King Ocean Services Limited.

Synopsis: Under the proposed agreement, Dole will charter space to King Ocean in the trade between the ports of Port Everglades, Florida, and Puerto Moin, Costa Rica.

By Order of the Federal Maritime Commission.
Dated: February 22, 2002.
Bryant L. VanBrakle,
Secretary.

[FR Doc. 02-4652 Filed 2-26-02; 8:45 am]

BILLING CODE 6730-01-P